FEDERAL COMMUNICATIONS COMMISSION

47 CFR Part 64

[CC Docket Nos. 00-257 and 94-129; FCC 01-156]

2000 Biennial Review—Review of Policies and Rules Concerning Unauthorized Changes of Consumers Long Distance Carriers

AGENCY: Federal Communications Commission.

ACTION: Final rule, correction.

SUMMARY: This document corrects an error in the docket heading portion of a Federal Register document regarding streamlined waiver procedures that the Commission adopted for the carrier-to-carrier sale or transfer of subscriber basis. The Commission's new procedures provide for an acquiring carrier to simply self-certify to the Commission, in advance of the transfer, that the carrier will follow the required procedures. The summary was published in the Federal Register on May 22, 2001.

DATES: Effective June 6, 2001.

FOR FURTHER INFORMATION CONTACT: Michele Walters, Associate Division Chief, or Dana Walton-Bradford, Attorney, Common Carrier Bureau, Accounting Policy Division, (202) 418-7400.

SUPPLEMENTARY INFORMATION: This summary contains a correction to the heading portion of a Federal Register summary, 66 FR 28117 (May 22, 2001). The full text of the Commission's Report and Order is available for public inspection during regular business hours in the FCC Reference Center, Room CY-A257, 445 Twelfth Street, SW., Washington, DC 20554.

Correction

1. On page 28117, in the second column, in the docket heading, “FCC 01-153” is corrected to read “FCC 01-156.”

Federal Communications Commission.
Magalie Roman Salas,
Secretary.

[FR Doc. 01-14168 Filed 6-5-01; 8:45 am]

BILLING CODE 6712-01-P